DEPARTMENT OF COMMERCE

National Oceanic and Atmospheric Administration

[RTID 0648-XA087]

Pacific Fishery Management Council; Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet April 4-10, 2020. The Pacific Council meeting will begin on Sunday, April 5, 2020 at 8 a.m. Pacific Daylight Time (PDT), reconvening at 8 a.m. each day through Friday, April 10, 2020. All meetings are open to the public, except a closed session will be held from 8 a.m. to 9 a.m., Sunday, April 5, to address litigation and personnel matters. The Pacific Council will meet as late as necessary each day to complete its scheduled business.

ADDRESSES: Meetings of the Pacific Council and its advisory entities will be held at the Hilton Vancouver, 301 West 6th Street, Vancouver, WA; telephone: (360) 993-4500.

Council address: Pacific Fishery Management Council, 7700 NE Ambassador Place, Suite 101, Portland, OR 97220. Instructions for attending the meeting via live stream broadcast are given under SUPPLEMENTARY INFORMATION, below.

FOR FURTHER INFORMATION CONTACT: Mr. Chuck Tracy, Executive Director; telephone: (503) 820-2280 or (866) 806-7204 toll-free; or access the Pacific Council website, http://www.pcouncil.org for the current meeting location, proposed agenda, and meeting briefing materials.

SUPPLEMENTARY INFORMATION: The April 5-10, 2020 meeting of the Pacific Council will be streamed live on the internet. The broadcasts begin initially at 9 a.m. PDT Sunday, April 5, 2020 and continue at 8 a.m. daily through Friday, April 10, 2020. Broadcasts end when business for the day is complete. Only the audio portion and presentations displayed on the screen at the Pacific Council meeting will be broadcast. The audio portion is listen-only; you will be unable to speak to the Pacific Council via the broadcast. You can attend the webinar online using a computer, tablet, or smart phone, using the RingCentral application. To access the meeting online, please use the following link: https://webinar.ringcentral.com/j/1482157036, or if you already have RingCentral Meeting installed you may join the meeting using the ID: 148-215-7036. It is recommended that you use a computer headset to listen to the meeting, but you may use your telephone for the audio-only portion of the meeting. The audio portion may be attended using a telephone by following the connect to audio instructions on your screen, shown after joining the webinar.

Please note that the evolving public health situation regarding COVID-19 may affect the conduct of the April Council meeting. At the time this notice was submitted for publication, we anticipated the April meetings of the Pacific Council and its Advisory Bodies would be conducted as planned, in person, and without opportunities for remote participation other than the broadcast noted above. Pacific Council staff will monitor COVID-19 developments and will determine if there is a need to allow some additional level of remote participation or other contingency plan such as postponement of non-essential agenda items. If such measures are deemed necessary, Council staff will post notice of them prominently on our website (www.pcouncil.org). Potential meeting participants are encouraged to check the Pacific Council's website frequently for such information and updates.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, advisory entity meeting times, and meeting rooms are described in Agenda Item A.4, Proposed Council Meeting Agenda, and will be in the advance April 2020 briefing materials and posted on the Pacific Council website at www.pcouncil.org no later than Friday, March 20, 2020.

A. Call to Order

1. Opening Remarks

2. Roll Call

3. Executive Director's Report

4. Approve Agenda

B. Open Comment Period

1. Comments on Non-Agenda Items

C. Habitat Issues

1. Current Habitat Issues

D. Coastal Pelagic Species Management

1. National Marine Fisheries Service Report

2. Exempted Fishing Permits (EFPs) for 2020-21—Final Action

3. Pacific Sardine Assessment, Harvest Specifications, and Management Measures—Final Action

4. Essential Fish Habitat Review—Scoping

5. Preliminary Pacific Sardine Rebuilding Plan

E. Salmon Management

1. Tentative Adoption of 2020 Management Measures for Analysis

2. Essential Fish Habitat for Stocks Declared Overfished

3. Southern Oregon/Northern California Coast Coho Endangered Species Act Consultation Process

4. Clarify Council Direction on 2020 Management Measures

5. Methodology Review Preliminary Topic Selection

6. Salmon Reintroduction Above Grand Coulee Dam

7. Further Direction on 2020 Management Measures

8. Amendment 20: Annual Management Cycle and Management Boundary Change

9. 2020 Management Measures—Final Action

F. Enforcement

1. Annual U.S. Coast Guard Fishery Enforcement Report

G. Groundfish Management

1. National Marine Fisheries Service Report

2. Cost Recovery Report and Preliminary Regulation Changes

3. Implementation of the 2020 Pacific Whiting Fishery Under the U.S./Canada Agreement

4. Biennial Harvest Specifications for 2021-22 Fisheries—Final Action

5. Electronic Monitoring Program Review

6. Preliminary Preferred Management Measure Alternatives for 2021-22 Fisheries

7. Workload and New Management Measures Prioritization

8. Inseason Adjustments—Final Action

H. Pacific Halibut Management

1. Incidental Catch Limits for 2020 Salmon Troll Fishery—Final Action

I. Administrative Matters

1. Legislative Matters

2. Fiscal Matters

3. Membership Appointments; Statement of Organization, Practices, and Procedures; and Council Operating Procedures

4. Future Council Meeting Agenda and Workload Planning

Advisory Body Agendas

Advisory body agendas will include discussions of relevant issues that are on the Pacific Council agenda for this meeting and may also include issues that may be relevant to future Council meetings. Proposed advisory body agendas for this meeting will be available on the Pacific Council website http://www.pcouncil.org/council-operations/council-meetings/current-briefing-book/ no later than Friday, March 20, 2020.

Schedule of Ancillary Meetings

Day 1—Saturday, April 4, 2020

Coastal Pelagic Species Advisory Subpanel 8 a.m.

Coastal Pelagic Species Management Team 8 a.m.

Groundfish Electronic Monitoring Policy Advisory Committee and Technical Advisory Committee 8 a.m.

Habitat Committee 8 a.m.

Salmon Advisory Subpanel 8 a.m.

Salmon Technical Team 8 a.m.

Scientific and Statistical Committee 8 a.m.

Legislative Committee 10 a.m.

Model Evaluation Workgroup 10 a.m.

Budget Committee 1 p.m.

Tribal Policy Group As Necessary

Tribal and Washington Technical Group As Necessary

Day 2—Sunday, April 5, 2020

California State Delegation 7 a.m.

Oregon State Delegation 7 a.m.

Washington State Delegation 7 a.m.

Coastal Pelagic Species Advisory Subpanel 8 a.m.

Coastal Pelagic Species Management Team 8 a.m.

Enforcement Consultants 8 a.m.

Groundfish Advisory Subpanel 8 a.m.

Groundfish Management Team 8 a.m.

Salmon Advisory Subpanel 8 a.m.

Salmon Technical Team 8 a.m.

Scientific and Statistical Committee 8 a.m.

Tribal Policy Group As Necessary

Tribal and Washington Technical Group As Necessary

Day 3—Monday, April 6, 2020

California State Delegation 7 a.m.

Oregon State Delegation 7 a.m.

Washington State Delegation 7 a.m.

Groundfish Advisory Subpanel 8 a.m.

Groundfish Management Team 8 a.m.

Salmon Advisory Subpanel 8 a.m.

Salmon Technical Team 8 a.m.

Enforcement Consultants As Necessary

Tribal Policy Group As Necessary

Tribal and Washington Technical Group As Necessary

Day 4—Tuesday, April 7, 2020

California State Delegation 7 a.m.

Oregon State Delegation 7 a.m.

Washington State Delegation 7 a.m.

Groundfish Advisory Subpanel 8 a.m.

Groundfish Management Team 8 a.m.

Salmon Advisory Subpanel 8 a.m.

Salmon Technical Team 8 a.m.

Enforcement Consultants As Necessary

Tribal Policy Group As Necessary

Tribal and Washington Technical Group As Necessary

Day 5—Wednesday, April 8, 2020

California State Delegation 7 a.m.

Oregon State Delegation 7 a.m.

Washington State Delegation 7 a.m.

Groundfish Advisory Subpanel 8 a.m.

Groundfish Management Team 8 a.m.

Salmon Advisory Subpanel 8 a.m.

Salmon Technical Team 8 a.m.

Enforcement Consultants As Necessary

Tribal Policy Group As Necessary

Tribal and Washington Technical Group As Necessary

Day 6—Thursday, April 9, 2020

California State Delegation 7 a.m.

Oregon State Delegation 7 a.m.

Washington State Delegation 7 a.m.

Groundfish Advisory Subpanel 8 a.m.

Groundfish Management Team 8 a.m.

Salmon Advisory Subpanel 8 a.m.

Salmon Technical Team 8 a.m.

Enforcement Consultants As Necessary

Tribal Policy Group As Necessary

Tribal and Washington Technical Group As Necessary

Day 7—Friday, April 10, 2020

California State Delegation 7 a.m.

Oregon State Delegation 7 a.m.

Washington State Delegation 7 a.m.

Salmon Technical Team 8 a.m.

Although non-emergency issues not contained in this agenda may come before the Pacific Council for discussion, those issues may not be the subject of formal Council action during this meeting. Council action will be restricted to those issues specifically listed in this notice and any issues arising after publication of this notice that require emergency action under Section 305(c) of the Magnuson-Stevens Fishery Conservation and Management Act, provided the public has been notified of the Pacific Council's intent to take final action to address the emergency.

Special Accommodations

These meetings are physically accessible to people with disabilities. Requests for sign language interpretation or other auxiliary aids should be directed to Mr. Kris Kleinschmidt at (503) 820-2412 at least 10 business days prior to the meeting date.

Authority: 16 U.S.C. 1801 et seq.

Dated: March 13, 2020.
Tracey L. Thompson,
Acting Deputy Director, Office of Sustainable Fisheries, National Marine Fisheries Service.

[FR Doc. 2020-05618 Filed 3-17-20; 8:45 am]

BILLING CODE 3510-22-P